DEPARTMENT OF COMMERCE

National Oceanic and Atmospheric Administration

RIN 0648-XE369

Pacific Fishery Management Council; Public Meetings and Hearings

AGENCY: National Marine Fisheries Service (NMFS), National Oceanic and Atmospheric Administration (NOAA), Commerce.

ACTION: Notice of opportunities to submit public comments.

SUMMARY: The Pacific Fishery Management Council (Pacific Council) has announced its annual preseason management process for the 2016 ocean salmon fisheries. This notice informs the public of opportunities to provide comments on the 2016 ocean salmon management measures.

DATES: Written comments on the salmon management alternatives adopted by the Pacific Council at its March 2016 meeting, and described in Preseason Report II, received electronically or in hard copy by 11:59 p.m. Pacific Time, April 3, 2016, will be considered in the Pacific Council's final recommendation for the 2016 management measures.

ADDRESSES: Documents will be available from Ms. Dorothy Lowman, Chair, Pacific Fishery Management Council, 7700 NE Ambassador Place, Suite 101, Portland, OR 97220-1384, and posted on the Pacific Council Web site at http://www.pcouncil.org. You may submit comments, identified by NOAA-NMFS-2016-0007, by any one of the following methods:

• Electronic Submissions: Submit all electronic public comments via the Federal e-Rulemaking Portal. Go to http://www.regulations.gov/#!docketDetail;D=NOAA-NMFS-2016-0007, click the “Comment Now!” icon, complete the required fields, and enter or attach your comments.

• Mail: Ms. Dorothy Lowman, Chair, Pacific Fishery Management Council, 7700 NE Ambassador Place, Suite 101, Portland, OR 97220-1384.

• Fax: 503-820-2299, Attn: Mr. Mike Burner.

• Comments can also be submitted via email to PFMC.comments@noaa.gov.

Instructions: Comments sent by any other method, to any other address or individual may not be considered by NMFS or the Pacific Council. All comments received are a part of the public record and will generally be posted for public viewing on http://www.regulations.gov without change. All personal identifying information (e.g., name, address, etc.), confidential business information, or otherwise sensitive information submitted voluntarily by the sender will be publicly accessible. NMFS and the Pacific Council will accept anonymous comments (enter “N/A” in the required fields if you wish to remain anonymous).

FOR FURTHER INFORMATION CONTACT: Mr. Mike Burner, Pacific Council, telephone: 503-820-2414. For information on submitting comments via the Federal e-Rulemaking portal, contact Peggy Mundy, NMFS, telephone: 206-526-4323.

SUPPLEMENTARY INFORMATION: The Pacific Council has published its annual notice of availability of reports, public meetings, and hearings for the 2016 ocean salmon fisheries (80 FR 81806, December 31, 2015). The Pacific Council will adopt alternatives for 2016 ocean salmon fisheries at its meeting, March 8-14, 2016, at the DoubleTree by Hilton in Sacramento, CA. Details of this meeting are available on the Pacific Council's Web site (http://www.pcouncil.org) and will be published in the Federal Register in February 2016. On March 23, 2016, “Preseason Report II—Proposed Alternatives and Environmental Assessment Part 2 for 2016 Ocean Salmon Fishery Regulations” is scheduled to be posted on the Pacific Council Web site at http://www.pcouncil.org. The report will include a description of the salmon management alternatives and a summary of their biological and economic impacts. Public hearings will be held to receive comments on the proposed ocean salmon fishery management alternatives adopted by the Pacific Council. Written comments received at the public hearings and a summary of oral comments at the hearings will be provided to the Pacific Council at its April meeting.

All public hearings begin at 7 p.m. at the following locations:

• March 28, 2016: Chateau Westport, Beach Room, 710 West Hancock, Westport, WA 98595, telephone 360-268-9101.

• March 28, 2016: Red Lion Hotel, South Umpqua Room, 1313 North Bayshore Drive, Coos Bay, OR 97420, telephone 541-267-4141.

• March 29, 2016: Motel 6, Convention Room, 400 South Main St, Fort Bragg, CA 95437, telephone 707-964-4761.

Comments on the alternatives the Pacific Council adopts at its March 2016 meeting, and described in Preseason Report II, may be submitted in writing or electronically as described under ADDRESSES, or verbally or in writing at any of the public hearings held on March 28-29, 2016, or at the Pacific Council's meeting, April 9-14, 2016, at the Hilton in Vancouver, WA. Details of these meetings will be available on the Pacific Council's Web site (http://www.pcouncil.org) and will be published in the Federal Register. Written and electronically submitted comments must be received no later than 11:59 p.m. Pacific Time, April 3, 2016, in order to be included in the briefing book for the April Council meeting where they will be considered in the adoption of the Pacific Council's final recommendation for the 2016 salmon fishery management measures. All comments received accordingly will be reviewed and considered by the Pacific Council and NMFS.

Authority: 16 U.S.C. 1801 et seq.

Dated: January 27, 2016.
Emily H. Menashes,
Acting Director, Office of Sustainable Fisheries, National Marine Fisheries Service.

[FR Doc. 2016-01761 Filed 1-29-16; 8:45 am]

BILLING CODE 3510-22-P